DEPARTMENT OF DEFENSE

Department of the Army; Corps of Engineers

Notice of Intent To Prepare a Draft Environmental Impact Statement for Potential Multipurpose Projects for Ecosystem Restoration, Flood Damage Reduction, and Recreation Development Within and Along the Clear and West Forks of the Trinity River in Fort Worth, Tarrant County, TX

Correction

In notice document 04-23681 beginning on page 62029 in the issue of Friday, October 22, 2004, make the following correction:

On page 62029, in the first column, under the SUMMARY heading, in the second line from the bottom, “October 14, 2002” should read “October 16, 2002.”

[FR Doc. C4-23681 Filed 10-27-04; 8:45 am]

BILLING CODE 1505-01-D

SECURITIES AND EXCHANGE COMMISSION

[Release No. 34-50502; File No. SR-NASD-2004-149]

Self-Regulatory Organizations; Notice of Filing and Immediate Effectiveness of Proposed Rule Change by the National Association of Securities Dealers, Inc. To Establish Access Fees for Nasdaq's Brut Facility

October 7, 2004.

Correction

In notice document E4-2655 beginning on page 61275 in the issue of Friday, October 15, 2004 make the following correction:

On page 61275, in the second column, the docket number is corrected to read as set forth above.

[FR Doc. Z4-2655 Filed 10-27-04; 8:45 am]

BILLING CODE 1505-01-D